FEDERAL COMMUNICATIONS COMMISSION

47 CFR Parts 61 and 69

[WC Docket Nos. 10-90, 07-135, 05-337, 03-109; GN Docket No. 09-51; CC Docket Nos. 01-92, 96-45; WT Docket No. 10-208; FCC 11-161]

Tariffs (Other Than Tariff Review Plan); Connect America Fund; A National Broadband Plan for Our Future; Establishing Just and Reasonable Rates for Local Exchange Carriers; High-Cost Universal Service Support

AGENCY: Federal Communications Commission.

ACTION: Final rule; announcement of effective date.

SUMMARY: In this document, the Federal Communications Commission (Commission) announces that the Office of Management and Budget (OMB) has approved, for a period of 3 years, revisions to an information collection associated with the Commission's Connect America Fund, Report and Order (Order). The Commission submitted revisions to this information collection under control number 3060-0298 to OMB for review and approval, as required by the Paperwork Reduction Act (PRA) of 1995 (44 U.S.C. 3501-3520), 77 FR 20629, April 5, 2012. OMB approved the revisions on May 29, 2012.

DATES: The amendments to 47 CFR 61.3(bbb)(2) and 69.3(e)(12) published at 76 FR 73830, November 29, 2011, were approved by OMB on May 29, 2012, and are effective on June 22, 2012.

FOR FURTHER INFORMATION CONTACT: Belinda Nixon, Wireline Competition Bureau, (202) 418-1520 or TTY: (202) 418-0484.

SUPPLEMENTARY INFORMATION: This document announces that, on May 29, 2012, OMB approved, for a period of 3 years, information collection requirements contained in the Commission's Order, FCC 11-161, published at 76 FR 73830, November 29, 2011. The OMB Control Number is 3060-0298. The Commission publishes this notice as an announcement of the effective date rules requiring OMB approval. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on May 29, 2012, for the information collection requirements contained in the Commission's rules at §§ 61.3(bbb)(2) and 69.3(e)(12).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0298.

The foregoing notice is required by the Paperwork Reduction Act of 1995, Public Law 104-13, October 1, 1995, and 44 U.S.C. 3507.

The total annual reporting burdens and costs for the respondents are as follows:

Estimated Annual Burden: 7,350 responses; 20 hours to 50 hours; 215,500 hours.

Obligation to Respond: Required to obtain or retain benefits. Statutory authority for this information collection is contained in 47 U.S.C. 201, 202, 203, and 251(b)(5) of the Communications Act of 1934, as amended.

Needs and Uses: On November 18, 2011, the Commission adopted the Order, FCC 11-161, published at 76 FR 73830, November 29, 2011, that requires or permits incumbent and competitive local exchange carriers as part of transitioning regulation of interstate and intra-state switched access rates and reciprocal compensation rates to bill-and-keep under section 251(b)(5) of the Communications Act of 1934, as amended, to file tariffs with state commissions and the FCC. This transition affects different switched access rates at specified timeframes and establishes an Access Recovery Charge by which carriers will be able to assess end uses a monthly charge to recover some or all of the revenues they are permitted to recover resulting from reductions in intercarrier compensation rates. The information collected through a carrier's tariff is used by the Commission and state commissions to determine whether services offered are just and reasonable as the Act requires. The tariffs and any supporting documentation are examined in order to determine if the services are offered in a just and reasonable manner.

Federal Communications Commission.
Marlene H. Dortch,
Secretary.

[FR Doc. 2012-14600 Filed 6-21-12; 8:45 am]

BILLING CODE 6712-01-P